DEPARTMENT OF EDUCATION

[Docket No. ED-2019-ICCD-0106]

Agency Information Collection Activities; Submission to the Office of Management and Budget for Review and Approval; Comment Request; 2019-20 National Postsecondary Student Aid Study (NPSAS:20)

AGENCY: National Center for Education Statistics (NCES), Department of Education (ED).

ACTION: Notice.

SUMMARY: In accordance with the Paperwork Reduction Act of 1995, ED is proposing a revision of an existing information collection.

DATES: Interested persons are invited to submit comments on or before November 29, 2019.

ADDRESSES: To access and review all the documents related to the information collection listed in this notice, please use http://www.regulations.gov by searching the Docket ID number ED-2019-ICCD-0106. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Information Collection Clearance Division, U.S. Department of Education, 550 12th Street SW, PCP, Room 9089, Washington, DC 20202-0023.

FOR FURTHER INFORMATION CONTACT: For specific questions related to collection activities, please contact Kashka Kubzdela, 202-245-7377 or email NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2019-20 National Postsecondary Student Aid Study (NPSAS:20).

OMB Control Number: 1850-0666.

Type of Review: A revision of an existing information collection.

Respondents/Affected Public: Individuals or Households.

Total Estimated Number of Annual Responses: 111,614.

Total Estimated Number of Annual Burden Hours: 131,801.

Abstract: The 2019-20 National Postsecondary Student Aid Study (NPSAS:20) is a nationally representative cross-sectional study of how students and their families finance education beyond high school in a given academic year. NPSAS is conducted by the National Center for Education Statistics (NCES) and was first implemented by NCES during the 1986-87 academic year and has been fielded every 3 to 4 years since. This request is to conduct the 11th cycle in the NPSAS series during the 2019-20 academic year. NPSAS:20 will be both nationally- and state-representative and will serve as the base year data collection for the 2020 cohort of the Beginning Postsecondary Students Longitudinal Study (BPS:20), a study of first-time beginning postsecondary students that will be conducted three years (BPS:20/22) and six years (BPS:20/25) after beginning their postsecondary education. NPSAS:20 will consist of a nationally-representative sample of undergraduate and graduate students, and a nationally-representative sample of first-time beginning students (FTBs). Subsets of questions in the NPSAS:20 student interview will focus on describing aspects of the experience of beginning students in their first year of postsecondary education, including student debt and education experiences. This request is to conduct all activities related to NPSAS:20, and thus this submission covers materials and procedures related to: The NPSAS:20 student data collection, consisting of abstraction of student data from institutions and a student survey; panel maintenance activities for a NPSAS:2020 follow-up field test (for BPS:20/22); and carries over respondent burden, procedures, and materials related to the NPSAS:20 institution sampling, enrollment list collection, and matching to administrative data files as approved by OMB in July and anticipated change request in September 2019 (OMB #1859-0666 v.23-24). The NPSAS:20 enrollment list collection from institutions will take place from October 2019 through July 2020, the student records collection will take place from February through November 2020, and the student survey data collection will take place from January through November 2020.

Dated: October 24, 2019.
Stephanie Valentine,
PRA Coordinator, Information Collection Clearance Program, Information Management Branch, Office of the Chief Information Officer.

[FR Doc. 2019-23582 Filed 10-28-19; 8:45 am]

BILLING CODE 4000-01-P